DEPARTMENT OF EDUCATION

Peer Review Opportunities With the U.S. Department of Education's Office of Elementary and Secondary Education (OESE), Office of Postsecondary Education (OPE), and Office of Special Education and Rehabilitative Services (OSERS)

AGENCY: Office of Elementary and Secondary Education, Office of Postsecondary Education, and Office of Special Education and Rehabilitative Services, U.S. Department of Education.

ACTION: Notice.

SUMMARY: The U.S. Department of Education (Department) announces opportunities for individuals to participate in its peer review process by reviewing applications for competitive grant funding under the programs administered by OESE, OPE, and OSERS.

DATES: Requests to serve as a peer reviewer for fiscal year 2021 will be accepted on an ongoing basis, aligned with this year's grant competition schedule. Requests to serve as a peer reviewer should be submitted at least four weeks prior to the program's application deadline noted on the Department's website under “Forecast of Funding Opportunities” at www2.ed.gov/fund/grant/find/edlite-forecast.html. This notice highlights the specific needs of OESE, OPE, and OSERS.

ADDRESSES: An individual interested in serving as a peer reviewer must register and upload his or her resume in the Department's grants management system known as “G5” at www.g5.gov.

FOR FURTHER INFORMATION CONTACT:

OESE: Richard Wilson, U.S. Department of Education, 400 Maryland Avenue SW, Room 3W101, Washington, DC 20202. Telephone: (202) 453-6709. Email: richard.wilson@ed.gov.

OPE: Tonya Hardin, U.S. Department of Education, 400 Maryland Avenue SW, Room 2C205, Washington, DC 20202. Telephone: (202) 453-7694. Email: tonya.hardin@ed.gov.

OSERS: Kate Friday, U.S. Department of Education, 400 Maryland Avenue SW, Room 5081B, Potomac Center Plaza, Washington, DC 20202-5076. Telephone: (202) 245-7605. Email: kate.friday@ed.gov.

If you use a telecommunications device for the deaf (TDD) or a text telephone (TTY), call the Federal Relay Service (FRS), toll free, at 1-800-877-8339.

SUPPLEMENTARY INFORMATION: The mission of the Department is to promote student achievement and preparation for global competitiveness by fostering educational excellence and ensuring equal access. The Department pursues its mission by funding programs that will improve access to high-quality educational opportunities and programs that pursue innovations in teaching and learning with a focus on underserved students. The Department also funds programs in other areas as authorized by statute. Grant funds are awarded to State educational agencies; local educational agencies (i.e., school districts); State, local, or Tribal governments; nonprofit organizations; institutions of higher education (IHEs), including IHEs that have experience in the operation of American Indian Vocational Rehabilitation Service programs; and other entities through a competitive process referred to as a grant competition.

Each year the Department convenes panels of external education professionals and practitioners to serve as peer reviewers.¹ Peer reviewers evaluate and score submitted applications against program-specific criteria and announced priorities. Application scores are then used to inform the Secretary's funding decisions.

¹ Please note that the Institute of Education Sciences (IES) uses different peer review processes and procedures than those described in this notice. More information on the IES peer review process can be found at: https://ies.ed.gov/director/sro/application_review.asp. IES also administers its research grant competitions on a different timeline from other offices in the Department.

Executive Order 13985, Advancing Racial Equity and Support for Underserved Communities Through the Federal Government, directs Federal agencies to “assess whether underserved communities and their members face systemic barriers in accessing benefits and opportunities available pursuant to those policies and programs.” We believe that increasing the diversity of peer reviewers is an important element of the Department's efforts to implement this Executive order. As a result, the Department is particularly interested in peer reviewers who represent diverse experiences and perspectives and whose expertise pertains to OESE, OPE, and OSERS grant competitions.

This year, OESE is managing nearly 15 grant competitions to fund a range of projects that support education innovation and research; educator growth and diversity; magnet, community, and charter schools; literacy; arts education; history and civics education; and American Indian/Alaska Native education.

Similarly, OPE is conducting over 20 grant competitions to fund a wide range of projects, including projects to support improvements in educational quality, management, and financial stability at colleges and universities that enroll high numbers of underserved students; projects to provide high-quality support services to improve retention and graduation rates of students who are low income or first-generation college students or individuals with disabilities; projects designed to strengthen foreign language instruction, area and international studies teaching and research, professional preparation and development for educators, and curriculum development at the K-12, graduate, and postsecondary levels; and other innovative projects designed to improve postsecondary education. OPE grant competitions will take place between now and the end of the calendar year.

OSERS is managing nearly 20 grant competitions that will take place between now and September 2021. The competitions in OSERS' Office of Special Education Programs (OSEP) include those under the following programs: State Personnel Development Grants; Personnel Development; Technical Assistance and Dissemination; Educational Technology, Media, and Materials; and Parent Training and Information. The remaining competitions in OSERS' Rehabilitation Services Administration (RSA) include those under the following programs: Training of Interpreters for Individuals Who Are Deaf or Hard of Hearing and Individuals Who Are Deaf-Blind, Training in Specialized Training; Rehabilitation Short-Term Training, Client Assistance Program; American Indian Vocational Rehabilitation Training and Technical Assistance Center; and Section 21, Traditionally Underserved Populations.

The Department seeks to expand its pool of peer reviewers to ensure that applications are evaluated by individuals with up-to-date and relevant knowledge of educational interventions and practices across the learning continuum, from early education to college and career, and in a variety of learning settings. Department peer reviewers are education and vocational rehabilitation professionals who have gained subject matter expertise through their education and work as teachers, professors, principals, administrators, school counselors, researchers, evaluators, content developers, or vocational rehabilitation professionals or interpreters. Peer reviewers can be active education professionals, in any educational level or sector, or those who are retired but stay informed of current educational content and issues. No prior experience as a peer reviewer is required.

Peer reviewers for each competition will be selected based on several factors, including each reviewer's program-specific expertise, the number of applications to be reviewed, how peer reviewers can support the Department's implementation of Executive Order 13985, and the availability of prospective reviewers. Individuals selected to serve as peer reviewers are expected to participate in training; independently read, score, and provide written evaluative comments on assigned applications; and participate in facilitated panel discussions. Panel discussions are held via conference calls. The time commitment for peer reviewers is usually several hours a day over a period of one to four weeks. Peer reviewers receive an honorarium payment as monetary compensation for successfully reviewing applications.

If you are interested in serving as a peer reviewer for the Department, you should first review the program web pages of the grant programs that match your area of expertise. You can access information on each grant program from the link provided on the Department's grants forecast page at www2.ed.gov/fund/grant/find/edlite-forecast.html. If you have documented experience that you believe qualifies you to serve as a peer reviewer for one or more specific grant programs, please register in G5, at www.g5.gov, which allows the Department to manage and assign potential peer reviewers to competitions that may draw upon their professional backgrounds and expertise. A toolkit that includes helpful information on how to be considered as a peer reviewer for programs administered by the Department can be found at www2.ed.gov/documents/peer-review/peer-reviewer-toolkit.pptx. Neither the submission of a resume nor registration in G5 guarantees you will be selected to be a peer reviewer.

In addition to registering in G5, some OPE and OSERS/RSA peer reviews may require being registered in the System for Award Management (SAM). Note that registration in SAM.gov requires an active Data Universal Numbering System Number (DUNS). Since registration for some of these processes can take longer than a week, interested individuals are encouraged to register in advance of being contacted by the Department. In addition to registering in G5, some OSERS/OSEP peer reviews require being approved to serve on the Office of Special Education's Standing Panel. Individuals should express their interest to serve as a peer reviewer for OSEP competitions directly to the competition manager listed in the Notice Inviting Applications at least two weeks prior to the application closing date.

If you have interest in serving as a reviewer specifically for OESE competitions (Chart 2 of the Forecast of Funding Opportunities), you must also send your resume to OESEPeerReviewRecruitment@ed.gov. If you have interest in serving as a reviewer specifically for RSA competitions (Chart 4B) also send your resume to RSAPeerReview@ed.gov and osersprs@ed.gov. The subject line of the email should read “Prospective 2021 Peer Reviewer.” In the body of the email list all programs for which you would like to be considered to serve as a peer reviewer.

Requests to serve as a peer reviewer should be submitted at least four weeks prior to the program's application deadline, noted on the forecast page, to provide program offices with sufficient time to review resumes and determine an individual's suitability to serve as a peer reviewer for a specific competition. If you are selected to serve as a peer reviewer, the program office will contact you.

Accessible Format: On request to the person(s) listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: Elementary and Secondary Education Act of 1965, as amended (20 U.S.C. 6301 et seq.), Higher Education Act of 1965, as amended (20 U.S.C. 1001 et seq.), Individuals with Disabilities Education Act (20 U.S.C. 1400 et seq.), and the Rehabilitation Act of 1973, as amended by the Workforce Innovation and Opportunity Act (29 U.S.C. 701 et seq.).

Donna M. Harris-Aikens,
Senior Advisor for Policy and Planning, delegated the authority to perform the functions and duties of the Assistant Secretary for Planning, Evaluation and Policy Development.

[FR Doc. 2021-12845 Filed 6-22-21; 8:45 am]

BILLING CODE 4000-01-P